DEPARTMENT OF STATE

[Public Notice: 11706]

60-Day Notice of Proposed Information Collection: COVID-19 Vaccination Requests for Waiver

ACTION: Notice of request for public comment.

SUMMARY: The Department of State is seeking Office of Management and Budget (OMB) approval for the information collection described below. In accordance with the Paperwork Reduction Act of 1995, we are requesting comments on this collection from all interested individuals and organizations. The purpose of this notice is to allow 60 days for public comment preceding submission of the collection to OMB.

DATES: The Department will accept comments from the public up to June 13, 2022.

ADDRESSES: You may submit comments by any of the following methods:

• Web: Persons with access to the internet may comment on this notice by going to www.Regulations.gov. You can search for the document by entering “Docket Number: DOS-2022-0100” in the Search field. Then click the “Comment Now” button and complete the comment form.

• Email: NicodemusAL@state.gov.

You must include the DS form number (if applicable), information collection title, and the OMB control number in any correspondence.

SUPPLEMENTARY INFORMATION:

• Title of Information Collection: COVID-19 Vaccination Request for Waiver.

• OMB Control Number: 1405-0246.

• Type of Request: Extension of a Currently Approved Collection.

• Originating Office: GTM.

• Form Number: DS-1558, DS-1559.

• Respondents: New employees at the Department of State who may request an exception to Executive Order 14043 from this vaccination requirement based on a sincerely held religious belief or medical needs.

• Estimated Number of Respondents: 100.

• Estimated Number of Responses: 100.

• Average Time per Response: 75 minutes per response.

• Total Estimated Burden Time: 75 hours.

• Frequency: On occasion.

• Obligation to Respond: Voluntary.

We are soliciting public comments to permit the Department to:

• Evaluate whether the proposed information collection is necessary for the proper functions of the Department.

• Evaluate the accuracy of our estimate of the time and cost burden for this proposed collection, including the validity of the methodology and assumptions used.

• Enhance the quality, utility, and clarity of the information to be collected.

• Minimize the reporting burden on those who are to respond, including the use of automated collection techniques or other forms of information technology.

Please note that comments submitted in response to this Notice are public record. Before including any detailed personal information, you should be aware that your comments as submitted, including your personal information, will be available for public review.

Abstract of Proposed Collection

The purpose of collecting this information is to provide an avenue for individuals to request an exception to the vaccination requirement as a medical/disability or religious accommodation, and to determine whether the request for an exception to Executive Order 14043 is valid and can be accommodated.

Methodology

For prospective employees, both forms are PDFs that must be printed, completed, signed, and emailed to points of contact. The Medical Exception form has two parts: Part 2 of the form must be completed by a medical professional before the entire document is scanned and emailed.

A Notice Regarding Injunctions

The vaccination requirement issued pursuant to E.O. 14043, is currently the subject of a nationwide injunction. While that injunction remains in place, the Department will not process requests for a medical exception from the COVID-19 vaccination requirement pursuant to E.O. 14043. The Department will also not request the submission of any medical information related to a request for an exception from the vaccination requirement pursuant to E.O. 14043 while the injunction remains in place. But the Department may nevertheless receive information regarding a medical exception. That is because, if the Department were to receive a request for an exception from the COVID-19 vaccination requirement pursuant to E.O. 14043 during the pendency of the injunction, the Department will accept the request, hold it in abeyance, and notify the employee who submitted the request that implementation and enforcement of the COVID-19 vaccination requirement pursuant to E.O. 14043 is currently enjoined and that an exception therefore is not necessary so long as the injunction is in place. In other words, during the pendency of the injunction, any information collection related to requests for medical exception from the COVID-19 vaccination requirement pursuant to E.O. 14043 is not undertaken to implement or enforce the COVID-19 vaccination requirement.

Kevin E. Bryant,
Deputy Director, Office of Directives Management, Department of State.

[FR Doc. 2022-07879 Filed 4-12-22; 8:45 am]

BILLING CODE 4710-05-P